FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicant

CEC International, 17800 Castleton Street, Ste. 418, City of Industry, CA 91748. Officer: Jenny Tsao, CFO, (Qualifying Individual).

Non-Vessel Operating Common Carrier and Ocean Freight Forwarder Transportation Intermediary Applicants

AAC Perishable Logistics, Inc., 6300 N.W. 97th Ave., Miami, FL 33178. Officer: Carlos Del Corral, President, (Qualifying Individual).

Access International Services, Corp., 8008 N.W. 68 Street, Miami, FL 33166. Gustavo A. Lopez, Vice President, (Qualifying Individual), Maria J. Rivas, President.

USTC America, Inc., 3550 Wilshire Blvd., Ste. 1020, Los Angeles, CA 90010. Officer: Jong Soo Park, President, (Qualifying Individual).

Thunderbolt Global Logistics, LLC, 2200 Broening Highway, Ste. 241, Baltimore, MD 21224. Officers: James Simon Shapiro, Member, (Qualifying Individual), Stuart M. Tobin, Managing Member.

Ocean Freight Forwarder—Ocean Transportation Intermediary Applicant

Shipping Logistics LLC, 15550 Vickery Drive, Ste. 100, Houston, TX 77032. Officer: Mary K. Francis, Owner, (Qualifying Individual).

Dated: December 21, 2007.
Karen V. Gregory,
Assistant Secretary.

[FR Doc. E7-25238 Filed 12-27-07; 8:45 am]

BILLING CODE 6730-01-P